SOCIAL SECURITY ADMINISTRATION

[Docket No. SSA-2010-0011]

Occupational Information Development Advisory Panel Meeting

AGENCY: Social Security Administration (SSA).

ACTION: Notice of Upcoming Quarterly Panel Meeting.

DATES: March 24, 2010, 8:30 a.m.-3 p.m. (CST); March 25, 2010, 8:30 a.m.-11:30 a.m. (CST).

Location: Sheraton St. Louis City Center.

ADDRESS: 400 South 14th Street, St. Louis, MO 63103.

By Teleconference: 1-866-283-8275.

SUPPLEMENTARY INFORMATION: Type of meeting: The meeting is open to the public.

Purpose: This discretionary Panel, established under the Federal Advisory Committee Act of 1972, as amended, shall report to the Commissioner of Social Security. The Panel will provide independent advice and recommendations on plans and activities to replace the Dictionary of Occupational Titles used in the Social Security Administration's (SSA) disability determination process. The Panel will advise the Agency on creating an occupational information system tailored specifically for SSA's disability programs and adjudicative needs. Advice and recommendations will relate to SSA's disability programs in the following areas: Medical and vocational analysis of disability claims; occupational analysis, including definitions, ratings and capture of physical and mental/cognitive demands of work and other occupational information critical to SSA disability programs; data collection; use of occupational information in SSA's disability programs; and any other area(s) that would enable SSA to develop an occupational information system suited to its disability programs and improve the medical-vocational adjudication policies and processes.

Agenda: The Panel will meet on Wednesday, March 24, 2010, from 8:30 a.m. until 3 p.m. (CST) and Thursday, March 25, 2010, from 8:30 a.m. until 11:30 a.m. (CST). The agenda will be available on the Internet at http://www.socialsecurity.gov/oidap/ one week prior to the meeting.

The tentative agenda for this meeting includes: presentations by invited stakeholder organizations for the purpose of receiving feedback on the Panel's recommendations identified in the report entitled Content Model and Classification Recommendations for the Social Security Administration Occupational Information System (September 2009) and related issues of concern in areas where additional or new occupational information is needed; a presentation on the status on the SSA FY 2010 Occupational Information System Development Project activities and the proposed integration with Panel activities; subcommittee chair reports; individual and organizational public comment; Panel discussion and deliberation, and an administrative business meeting.

The Panel will hear public comment during the Quarterly Meeting on Wednesday, March 24, 2010, from 2 p.m. to 3 p.m. (CST) and Thursday, March 25, 2010, from 8:45 a.m. to 9:15 a.m. (CST). Members of the public must reserve a time slot—assigned on a first come, first served basis—in order to comment. In the event public comment does not take the entire time allotted, the Panel may use any remaining time to deliberate or conduct other Panel business.

Those interested in providing testimony in person at the meeting or via teleconference should contact the Panel staff by e-mail to OIDAP@ssa.gov. Persons providing testimony are limited to a maximum five minute, verbal presentation. Organizational representatives will be allotted a maximum ten minute, verbal presentation. Written testimony, no longer than five (5) pages, may be submitted at any time either in person or by mail, fax or e-mail to OIDAP@ssa.gov for Panel consideration.

The comment period for the Panel's report entitled Content Model and Classification Recommendations for the Social Security Administration Occupational Information System (September 2009) is extended to May 21, 2010. Persons interested in providing feedback may do so by mail, fax or e-mail to the staff. Please include your complete contact information (full name, mailing and e-mail addresses) with the submission.

Seating is limited. Those needing special accommodation in order to attend or participate in the meeting (e.g., sign language interpretation, assistive listening devices, or materials in alternative formats, such as large print or CD) should notify Debra Tidwell-Peters via e-mail to debra.tidwell-peters@ssa.gov or by telephone at 410-965-9617, no later than March 17, 2010. SSA will attempt to meet requests made but cannot guarantee availability of services. All meeting locations are barrier free.

For telephone access to the meeting on March 24 and March 25, please dial 1-866-283-8275.

Contact Information: Records of all public Panel proceedings are maintained and available for inspection. Anyone requiring further information should contact the Panel staff at: Occupational Information Development Advisory Panel, Social Security Administration, 6401 Security Boulevard, 3-E-26 Operations, Baltimore, MD 21235-0001. Telephone: 410-965-9617. Fax: 202-410-597-0825. E-mail to OIDAP@ssa.gov. For additional information, please visit the Panel Web site at http://www.ssa.gov/oidap.

Dated: March 1, 2010.
Debra Tidwell-Peters,
Designated Federal Officer, Occupational Information Development Advisory Panel.

[FR Doc. 2010-4760 Filed 3-5-10; 8:45 am]

BILLING CODE 4191-02-P